DEPARTMENT OF THE INTERIOR

Bureau of Land Management

[WY-040-1430-ES; WYW-156111]

Notice of Realty Action; Recreation and Public Purposes (R&PP) Act Classification; Wyoming

AGENCY: Bureau of Land Management, Interior.

ACTION: Notice of Realty Action.

SUMMARY: The Bureau of Land Management (BLM) has examined and found suitable for classification for lease or conveyance to the City of Rock Springs under the provisions of the Recreation and Public Purposes Act, as amended, 7.8 acres of public land in Sweetwater County, Wyoming. The City of Rock Springs proposes to use the land for a Senior Citizens Center.

ADDRESSES: Bureau of Land Management, Rock Springs Field Office, 280 Highway 191 North, Rock Springs, Wyoming 82901.

DATES: Interested persons may submit written comments to the BLM at the address stated above. Comments must be received by not later than July 6, 2007.

FOR FURTHER INFORMATION CONTACT: Patricia Hamilton, Realty Specialist, at the above address or at 307-352-0334.

SUPPLEMENTARY INFORMATION: The following described public land in Sweetwater County, Wyoming, has been examined and found suitable for classification for lease or conveyance under provisions of the Recreation and Public Purposes (R&PP) Act, as amended (43 U.S.C. 869 et seq.) and is hereby classified accordingly:

Sixth Meridian, Wyoming

T. 19 N., R. 105 W.,

Sec. 28, lots 32, 33, and 35.

The land described contains 7.80 acres in Sweetwater County.

In accordance with the R&PP Act, the City of Rock Springs has filed an application and plan of development in which it proposes to use the above described public land for a Senior Citizen Center. The land is not needed for Federal purposes. Lease or conveyance pursuant to the R&PP Act is consistent with the BLM Green River Resource Area Management Plan, dated August 8, 1997, and would be in the public interest. The lease or conveyance, when issued, will be subject to the following terms, conditions, and reservations:

1. Provisions of the R&PP Act and to all applicable regulations, policy and guidance including but not limited to the regulations stated in 43 CFR 2740, of the Secretary of the Interior.

2. Reservation of a right-of-way to the United States for ditches and canals pursuant to the Act of August 30, 1890, 43 U.S.C. 945.

3. All minerals shall be reserved to the United States, together with the right to prospect for, mine, and remove the minerals under applicable laws and regulations established by the Secretary of the Interior, including all necessary access and exit rights.

4. Provided, that the land conveyed shall revert to the United States upon a finding, and after notice and opportunity for a hearing, that the patentee has not substantially developed the lands in accordance with the approved plan of development on or before the date 5 years after the date of conveyance.

5. All valid existing rights of record, including those documented on the official public land records at the time of lease or patent issuance.

Detailed information concerning the proposed action, including but not limited to documentation relating to compliance with applicable environmental and cultural resource laws, is available for review at the BLM, Rock Springs Field Office at the address stated above, telephone: 307-352-0334.

On May 22, 2007, the above described land will be segregated from all other forms of appropriation under the public land laws, including the general mining laws, except for lease or conveyance under the R&PP Act and leasing under the mineral leasing laws.

Interested parties may submit written comments regarding the proposed lease or conveyance or classification of the land for a Senior Citizen Center to the Field Manager, BLM Rock Springs Field Office, at the address stated above. Comments must be received by July 6, 2007.

Classification Comments: Interested parties may submit comments involving the suitability of the land for a Senior Citizen Center. Comments on the classification are restricted to whether the land is physically suited for the proposal, whether the use will maximize the future use or uses of the land, whether the use is consistent with local planning and zoning, or if the use is consistent with State and Federal programs.

Application Comments: Interested parties may submit comments regarding the specific use proposed in the application and Plan of Development, whether the BLM followed proper administrative procedures in reaching the decision; or any other factor not directly related to the suitability of the land for a Senior Citizen Center.

Confidentiality of Comments: Before including your address, phone number, e-mail address, or other personal identifying information in your comments, you should be aware that your entire comment—including your personal identifying information—may be made publicly available at any time. While you can ask us in your comment to withhold your personal identifying information from public review, we cannot guarantee that we will be able to do so.

Any adverse comments will be reviewed by the State Director, who may sustain, vacate, or modify this realty action. In the absence of any adverse comments, the classification will become effective July 23, 2007.

(Authority: 43 CFR part 2741)

Michael R. Holbert,
Field Manager.

[FR Doc. E7-9844 Filed 5-21-07; 8:45 am]

BILLING CODE 4310-22-P